DEPARTMENT OF AGRICULTURE

Office of Partnerships and Public Engagement

Advisory Committee on Minority Farmers

AGENCY: Office of Partnerships and Public Engagement (OPPE), USDA.

ACTION: Notice of public virtual meeting.

SUMMARY: Pursuant to the provisions of the rules and regulations of the United States Department of Agriculture (USDA) and the Federal Advisory Committee Act (FACA), notice is hereby given that a public meeting of the Advisory Committee on Minority Farmers (ACMF) will be convened. During this public meeting, the ACMF will consider USDA programs, services, and policies, and how they impact minority farmers. USDA Secretary Thomas Vilsack is committed to actions that enhance minority farmers' ability to produce and thrive as businesses through USDA's customer service enhancements, expanded outreach, technical assistance, and capacity building. The ACMF seeks to recommend action-oriented strategies that maximize the participation of minority farmers in USDA programs and services.

DATES: The ACMF public meeting is scheduled for March 28-30, 2023, from 9 a.m. to 5 p.m. Mountain Time (MT)—each day.

Meeting Pre-Registration:

The public is asked to pre-register for the meeting by March 27, 2023, at https://ems8.intellor.com/?do=register&t=1&p=847170.

Your pre-registration should include: your name; organization or interest represented; if you plan to give oral comments; and if you require special accommodations. USDA will also accept day-of registrations throughout the meeting. Time will be allotted at the end of each morning and afternoon for comments from those attending in person or virtually. USDA will allow as many individual and organizational comments as time permits.

Oral Comments: Persons or organizations may register for one speaking slot per day. All persons wanting to make oral comments during the in-person meeting may check-in each day at the registration table beginning 8:30 a.m. MT. If the number of registrants requesting to speak is greater than what can be reasonably accommodated during the session timeframe, OPPE may conduct a lottery to determine the speakers for the scheduled public comment session.

Written Comments: Written comments for consideration during the public meeting are requested by or before 3:00 p.m. MT, March 30, 2023. The ACMF prefers that all written comments be submitted electronically via the pre-registration link or emailed to the person listed in the FOR FURTHER INFORMATION CONTACT section (below). However, written comments may also be submitted (i.e., postmarked) via first class mail to the address listed in the FOR FURTHER INFORMATION CONTACT section (below) prior to the deadline. Written comments will be accepted up to 15 days after the public meeting.

Availability of Meeting Materials: All written public comments received by March 28, 2023, will be compiled and available for ACMF member review. Duplicate comments from multiple individuals may be considered as one comment, with a notation that multiple copies of the comment were received. Please visit https://www.usda.gov/partnerships/advisory-committee-on-minority-farmers to review the agenda, meeting documents (e.g., presentations), and minutes for this meeting.

Location: The ACMF public advisory meeting will be held at the University of Arizona's BIO5 Institute (Thomas W. Keating Bioresearch Building), 1657 E. Helen St., Tucson, AZ. Public attendees may register upon arrival beginning 8:30 a.m. each day.

Parking is available at the Highland Avenue Garage, 1240 N Highland Ave. Tucson, AZ. Drivers may park at the Highland Avenue Garage for $8 per day, using the Passport Parking application which may be downloaded onto a smartphone. The validation code for the Highland Avenue Garage is 52028. You will also need to include your license plate number.

Virtual Participation: Public participants may also view the committee proceedings and presentations via Zoom at https://ems8.intellor.com/login/847168. Meeting ID and passcode is not required.

The call-in numbers and code for listen-only access are:

US Toll Free: 888-251-2949

US Toll: 215-861-0694

Access Code: 7534 676#

FOR FURTHER INFORMATION CONTACT: Ms. R. Jeanese Cabrera, Designated Federal Officer, Office of Partnerships and Public Engagement, 1400 Independence Avenue SW, Mail Stop 0601, Room 524-A, Washington, DC 20250; Phone: (202) 720-6350; Email: acmf@usda.gov. Individuals who use telecommunication devices for the deaf (TDD) may call the FCC Telecommunications Relay Service (TRS) at 7-1-1 between 8 a.m. and 8 p.m., Eastern Standard Time, Monday through Friday.

SUPPLEMENTARY INFORMATION: The Committee was established pursuant to section 14008 of the Food Conservation and Energy Act of 2008, Public Law 110-246, 122 Stat. 1651, 2008 (7 U.S.C. 2279), to ensure that socially disadvantaged farmers have equal access to USDA programs. The Secretary selected a diverse group of members representing a broad spectrum of persons to recommend solutions to the challenges of minority farmers and ranchers. The members also advise the Secretary on implementation of section 2501 of the Food, Agriculture, Conservation, and Trade Act of 1990 (the 2501 Program); maximizing the participation of minority farmers and ranchers in USDA programs; and civil rights activities within the Department relative to participants in its programs.

Agenda: USDA agencies will deliver presentations that update the ACMF with the status of relevant programs, services, and policies. Thereafter, the ACMF will explore and examine challenges specific to minority farming communities, including but not limited to: (1) infrastructure and housing; (2) economically viable, ecologically sound, and climate-smart farming and ranching (e.g., planning, building, and business expansion); (3) barriers to minority farmer and rancher (i.e., producers and farm workers) participation in USDA programs, services, and partnerships; (4) barriers to capital access, land acquisition, debt management; and (5) adverse economic impacts of farming and ranching risk management. The ACMF will submit recommendations on these and related topics for the Secretary's consideration. The ACMF specifically seeks to engage and hear directly from a broad geographical base of minority farmers and ranchers on their experiences, pathways, and challenges as they contend with severe weather events or continued barriers of entry to economically sustainable farming. A final agenda will be available 48 hours prior to the first day of the public meeting minority-farmers) for a final agenda within 48 hours prior to Day 1 of the public meeting. https://www.usda.gov/partnerships/advisory-committee-on-minority-farmers.

Dated: March 7, 2024.
Cikena Reid,
USDA Committee Management Officer.

[FR Doc. 2023-05052 Filed 3-10-23; 8:45 am]

BILLING CODE 3412-88-P